ENVIRONMENTAL PROTECTION AGENCY

40 CFR Part 52

[EPA-R08-OAR-2019-0350; FRL-12535-01-R8]

Clean Air Act Operating Permit Program; Notice of Issuance of Title V Federal Operating Permit to Deseret Generation and Transmission Co-operative

AGENCY: Environmental Protection Agency (EPA).

ACTION: Notification of final action.

SUMMARY: The Environmental Protection Agency (EPA) issued a final permit decision under title V of the Clean Air Act (CAA) to Deseret Bonanza and Transmission Co-operative (Deseret) for the operation of Deseret's Uintah County, Utah, Bonanza Power Plant (Bonanza).

DATES: EPA issued title V Permit to Operate No. V-UO-000004-2019.00 to Deseret on December 4, 2023, under 40 CFR part 71. This permit was appealed to the Environmental Appeals Board by the Ute Tribe of Utah. The Board denied review of the permit on September 10, 2024, and EPA issued the final permit decision on December 17, 2024. Pursuant to section 307(b)(1) of the CAA, judicial review of EPA's final permit decision, to the extent it is available, may be sought by filing a petition for review in the United States Court of Appeals for the Tenth Circuit by March 17, 2025.

FOR FURTHER INFORMATION CONTACT: Suman Kunwar, Air and Radiation Division, EPA, Region 8, Mailcode 8ARD-AP-P, 1595 Wynkoop Street, Denver, Colorado, 80202-1129, telephone number: (303) 312-6095, email address: kunwar.suman@epa.gov.

SUPPLEMENTARY INFORMATION: Throughout this document wherever “we,” “us,” or “our” is used, we mean the EPA. This SUPPLEMENTARY INFORMATION is arranged as follows:

I. How can I get copies of this document and other related information?

EPA has established a docket for this action under Docket ID No. EPA-R08-OAR-2019-0350. Publicly available docket materials are available either electronically through www.regulations.gov or in hard copy at the Environmental Protection Agency, Region 8, Air and Radiation Division, 1595 Wynkoop Street, Denver, Colorado 80202. This facility is open from 8:30 a.m. to 4:30 p.m., Monday through Friday, excluding Federal holidays. We recommend that you telephone Suman Kunwar, Environmental Engineer, at (303) 312-6095 with any questions about reviewing the docket material before visiting the Region 8 office.

II. Background

The 1990 amendments to the CAA established a comprehensive air quality permit program under the authority of Title V of the CAA. Title V requires certain facilities that emit large amounts of air pollution, or that meet other specified criteria, to obtain an operating permit, known as a title V permit, after the source has begun to operate. This permit is an enforceable compilation of all enforceable terms, conditions, and limitations applicable to the source, and is designed to improve compliance by clarifying what facilities must do to control air pollution. EPA regulations implementing title V are codified at 40 CFR part 71 for permits issued by EPA or its delegates, and at 40 CFR part 70 for permits issued by states and local agencies pursuant to approved programs. A title V permit is valid for no more than five years and may be renewed in five-year-increments.

Deseret operates a facility, Bonanza, in Uintah County, Utah. Bonanza is a coal-fired power plant located on the Uintah and Ouray Reservation. Coal is delivered to the Facility by train and is crushed and pulverized before being fed into the main boiler. The boiler produces steam, which powers a turbine to generate electricity. On December 5, 2014, EPA Region 8 issued an initial title V Permit to Deseret for Bonanza pursuant to 40 CFR part 71.

On December 4, 2023, EPA Region 8 renewed Deseret's Title V permit for a new five-year term. See title V Permit to Operate No. V-UO-000004-2019.00, Docket ID: EPA-R08-OAR-2019-0350. On January 3, 2024, the Ute Indian Tribe filed an appeal of the title V permit for Bonanza with the Environmental Appeals Board. The Tribe did not petition to review certain terms and conditions of the renewed title V permit but contended that the Region failed to address the Tribe's concerns about the health and environmental impacts of the Bonanza plant and acted contrary to Executive Orders and EPA policies regarding environmental justice and Tribal consultation, and contrary to the Federal trust responsibility to federally-recognized Indian Tribes. In addition, the Tribe asserted that EPA abused its discretion and violated the Federal trust responsibility by not providing the results of an investigation identifying potential non-compliance with coal combustion residual requirements under the Resource Conservation and Recovery Act (“RCRA”) until after the CAA title V permit was issued. Consequently, under 40 CFR 71.11(i)(2)(ii), the effective date of the permit was delayed.

III. Effect of this Action

On September 10, 2024, the EAB denied the petition for review. See In re Deseret Generation and Transmission Co-operative Bonanza Power Plant, Permit No. V-UO-000004-2019.00, CAA Appeal No. 24-01 (EAB, September 10, 2024) (Order Denying Review). The Tribe requested that the EAB reconsider its Order Denying Review and on November 8, 2024, the EAB denied the Tribe's Motion for Reconsideration. Following the EAB's action, pursuant to 40 CFR 124.19(l)(2)(i), the EPA issued a final permit decision on December 17, 2024. The final title V permit is effective immediately and will expire on December 17, 2029.

Authority: 42 U.S.C. 7401 et seq.

KC Becker,
Regional Administrator, Region 8.

[FR Doc. 2025-00651 Filed 1-15-25; 8:45 am]

BILLING CODE 6560-50-P